DEPARTMENT OF COMMERCE

National Oceanic and Atmospheric Administration

RIN 0648-XD390

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a meeting, which is open to the public.

DATES: The HMSMT will meet Tuesday, August 12 to Thursday, August 14, 2014. This meeting will start at 8:30 a.m. and continue until business is concluded on each day.

ADDRESSES:

Meeting address: The meeting will be held at the following locations:

August 12, Pacific Room, Southwest Fisheries Science Center, 8901 La Jolla Shores Dr., La Jolla, CA 92037-1509;

August 13, T-29 Martin Johnson House, Scripps Institute of Oceanography, 8840 Biological Grade, La Jolla, CA 92037;

August 14, Stenella Room, Southwest Fisheries Science Center, 8901 La Jolla Shores Dr., La Jolla, CA 92037-1509.

Council address: Pacific Council, 7700 NE Ambassador Place, Suite 101, Portland, OR 97220-1384.

FOR FURTHER INFORMATION CONTACT: Dr. Kit Dahl, Pacific Council; telephone: (503) 820-2280.

SUPPLEMENTARY INFORMATION: The HMSMT will discuss the development of alternatives and analyses for issues to be addressed as part of the HMS biennial harvest specifications and management measures process. The Pacific Council identified six topics to potentially address through the biennial process (see the June 2014 Decision Summary Document at www.pcouncil.org for a complete list). The Pacific Council assigned highest priority to reducing recreational catch of Pacific bluefin tuna and identifying take caps (“hard caps”) for selected protected species (marine mammals and sea turtles) for the California drift gillnet fishery. The HMSMT will also discuss the exempted fishing permit (EFP) review process, which is scheduled for the September and November Pacific Council meetings. EFP proposals have been solicited with a deadline of August 15. Finally, the HMSMT will discuss completion of the 2014 HMS Stock Assessment and Fishery Evaluation (SAFE) document. The HMSMT will report on their work at the September 12-17, 2014, Pacific Council meeting in Spokane, WA.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 5 days prior to the meeting date.

Dated: July 17, 2014.
Tracey L. Thompson,
Acting Deputy Director, Office of Sustainable Fisheries, National Marine Fisheries Service.

[FR Doc. 2014-17197 Filed 7-21-14; 8:45 am]

BILLING CODE 3510-22-P